INTER-AMERICAN FOUNDATION

Submission for OMB Review; Comments Request

AGENCY: Inter-American Foundation.

ACTION: Notice of information collection; request for comment.

SUMMARY: Under the provisions of the Paperwork Reduction Act, agencies are required to publish a Notice in the Federal Register notifying the public that the agency is creating a new information collection for OMB review and approval and requests public review and comment on the submission. The agencies received no comments in response to the sixty (60) day notice. Comments are being solicited on the need for the information; the accuracy of the burden estimate; the quality, practical utility, and clarity of the information to be collected; and ways to minimize reporting the burden, including automated collected techniques and uses of other forms of technology.

DATES: Comments must be received by December 8, 2023.

ADDRESSES: Comments and requests for copies of the subject information collection may be sent by any of the following methods:

• Mail: Nicole Stinson, Associate General Counsel, Inter-American Foundation, 1331 Pennsylvania Ave. NW, Suite 1200 North, Washington, DC 20004.

• Email: nstinson@iaf.gov.

Instructions: All submissions received must include the agency name and agency form name or OMB control number for this information collection. Electronic submissions must include the agency form name in the subject line to ensure proper routing. Please note that all written comments received in response to this notice will be considered public records.

FOR FURTHER INFORMATION CONTACT: Associate General Counsel: Nicole Stinson, (202) 683-7117.

SUPPLEMENTARY INFORMATION: The agency received no comments in response to the sixty (60) day notice published in Federal Register volume 88 page 54644 on August 11, 2023. Upon publication of this notice, IAF will submit to OMB a request for approval of the following information collections.

Summary Form Under Review

Title of Collection: Grant Management System Registration, IAF-01.

Type of Review: New information collection.

OMB Control Number: Not assigned, new information collection.

Type of Respondent/Affected Public: Private Sector, Businesses or other for profits, Not-for-profit institutions.

Frequency: Once.

Estimated Number of Respondents per Year: 1,400.

Estimated Time per Respondent: 0.1 hours.

Estimated Total Annual Burden Hours: 140 hours.

Abstract: The IAF works to promote sustainable development in Latin America and the Caribbean by directly supporting qualified civil society organizations through funding actions, such as grants and cooperative agreements. This collection will allow grant seekers to register for a new online IAF grant portal if they meet basic eligibility requirements. Transition to an online portal will allow electronic grant application and reporting which will increase the efficiency of IAF's grant management program.

Summary Form Under Review

Title of Collection: Grant Application, IAF-02.

Type of Review: New information collection.

OMB Control Number: Not assigned, new information collection.

Type of Respondent/Affected Public: Private Sector, Businesses or other for profits, Not-for-profit institutions.

Frequency: Once.

Estimated Number of Respondents per Year: 1,400.

Estimated Time per Respondent: 14 hours.

Estimated Total Annual Burden Hours: 19,600 hours.

Abstract: The IAF works to promote sustainable development in Latin America and the Caribbean by directly supporting qualified civil society organizations through funding actions, such as grants and cooperative agreements. This collection will gather application information directly from grant seekers including details about the applicant's organization, the development opportunity, and proposed project activities. Using this information, IAF is able to perform an initial assessment of the proposed project and determine which applicants are qualified as well as which projects are best positioned to advance grassroots development in the region. The IAF has made an effort to standardize the basic level of information required for this review in order to reduce the burden on both applicants and IAF staff reviewing the applications.

Summary Form Under Review

Title of Collection: Grant Programmatic and Financial Reporting, IAF-03.

Type of Review: New information collection.

OMB Control Number: Not assigned, new information collection.

Type of Respondent/Affected Public: Private Sector, Businesses or other for profits, Not-for-profit institutions.

Frequency: Twice a year.

Estimated Number of Respondents per year: 450.

Estimated Time per Respondent: 18 hours.

Estimated Total Annual Burden Hours: 16,200 hours.

Abstract: The IAF works to promote sustainable development in Latin America and the Caribbean by directly supporting qualified civil society organizations through funding actions, such as grants and cooperative agreements. In order to track grant progress toward desired results and ensure compliance with the terms and conditions of the agreement, the IAF seeks to establish a requirement that grantees provide programmatic and financial information every six months during the grant period, including reporting on project indicators, narrative data on grant achievements and challenges, and a record of spent funds.

This information is necessary as it allows IAF to ensure that the grantee is using project funds responsibly and making the necessary strides toward achieving the results laid out in the grant agreement.

Dated: November 3, 2023.
Nicole Stinson,
Associate General Counsel, Office of the General Counsel.

[FR Doc. 2023-24710 Filed 11-7-23; 8:45 am]

BILLING CODE 7025-01-P